DEPARTMENT OF COMMERCE

International Trade Administration

[A-570-898]

Chlorinated Isocyanurates From the People's Republic of China: Final Results of 2008-2009 Antidumping Duty Administrative Review

AGENCY: Import Administration, International Trade Administration, Department of Commerce.

DATES: Effective Date: November 17, 2010.

SUMMARY: The Department of Commerce (“the Department”) is conducting an administrative review of the antidumping duty order on chlorinated isocyanurates from the People's Republic of China (“PRC”) covering the period June 1, 2008, through May 31, 2009. We invited interested parties to comment on our preliminary results. Based on our analysis of the comments received, we have made changes to our margin calculations. Therefore, the final results differ from the preliminary results. The final dumping margin for this review is listed in the “Final Results of Review” section below.

FOR FURTHER INFORMATION CONTACT: Brandon Petelin or Charles Riggle, AD/CVD Operations, Office 8, Import Administration, International Trade Administration, U.S. Department of Commerce, 14th Street and Constitution Avenue, NW., Washington, DC 20230; telephone: (202) 482-8173 or (202) 482-0650, respectively.

Background

On May 14, 2010, the Department published its preliminary results of review of the antidumping order on chlorinated isocyanurates from the PRC.¹ On June 3, 2010, Hebei Jiheng Chemical Corporation, Ltd. (“Jiheng”) provided additional information on the appropriate surrogate values to use as a means of valuing factors of production. On June 14, 2010, the Department received a request for a hearing from Clearon Corporation and Occidental Chemical Corporation (collectively “Petitioners”), Petitioners in the underlying investigation. On June 15, 2010, the Department placed additional surrogate value information on the record of this review for valuation of the labor wage rate. On June 24, 2010, the Department received case briefs from Petitioners and Jiheng. On June 29, 2010, the Department received rebuttal briefs from Petitioners and Jiheng. On July 2, 2010, Petitioners withdrew their request for a public hearing. On July 20, 2010, the Department placed additional surrogate value information on the record for valuation of the labor wage rate. On July 23, 2010, the Department received comments from Petitioners and Jiheng on the additional wage rate surrogate value information. On July 27, 2010, the Department received rebuttal comments from Petitioners and Jiheng, limited to comments related to valuation of the labor wage rate. On September 28, 2010, the Department placed additional surrogate value information on the record for valuation of the labor wage rate. On October 4, 2010, the Department received comments from Jiheng on the industry specific wage rate information. We have conducted this administrative review in accordance with section 751 of the Tariff act of 1930, as amended (“the Act”), and 19 CFR 351.213.

¹ See Chlorinated Isocyanurates from the People's Republic of China: Preliminary Results and Partial Rescission of Antidumping Duty Administrative Review, 75 FR 27302 (May 14, 2010) (“Preliminary Results”).

Scope of the Order

The products covered by this order are chlorinated isocyanurates, as described below: Chlorinated isocyanurates are derivatives of cyanuric acid, described as chlorinated s-triazine triones. There are three primary chemical compositions of chlorinated isocyanurates: (1) Trichloroisocyanuric acid (Cl3(NCO)3), (2) sodium dichloroisocyanurate (dihydrate) (NaCl2(NCO)3•2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, 2933.69.6050, 3808.40.50, 3808.50.40 and 3808.94.50.00 of the Harmonized Tariff Schedule of the United States (“HTSUS”). The tariff classification 2933.69.6015 covers sodium dichloroisocyanurates (anhydrous and dehydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

Analysis of Comments Received

All issues raised in the post-preliminary comments by parties in this review are addressed in the memorandum from Susan H. Kuhbach, Acting Deputy Assistant Secretary for Antidumping and Countervailing Duty Operations, to Ronald K. Lorentzen, Deputy Assistant Secretary for Import Administration, “Issues and Decision Memorandum for the 2008-2009 Administrative Review of Chlorinated Isocyanurates from the People's Republic of China,” (“Issues and Decision Memorandum”) dated concurrently with this notice, which is hereby adopted by this notice. A list of the issues that parties raised and to which we responded in the Issues and Decision Memorandum is attached to this notice as an appendix. The Issues and Decision Memorandum is a public document and is on file in the Central Records Unit (“CRU”) in room 7046 in the main Commerce Department building, and is also accessible on the Web at http://ia.ita.doc.gov/frn. The paper copy and electronic version of the memorandum are identical in content.

Changes Since the Preliminary Results

Based on our analysis of comments received, we have made changes in the margin calculations for Jiheng. See Issues and Decision Memorandum at Comments 1-9.

As a consequence of the decision of the Court of Appeals for the Federal Circuit (“Federal Circuit”) in Dorbest Ltd. v. United States, 604 F. 3d 1363 (Fed. Cir. 2010), the Department is no longer relying on the regression-based wage rate described in 19 CFR 351.408(c)(3). For these final results, we have calculated an hourly wage rate to use in valuing Jiheng's reported labor input by averaging earnings and/or wages in countries that are economically comparable to the PRC and that are significant producers of comparable merchandise. To calculate the hourly wage rate, we used wage data reported by the International Labor Organization (“ILO”). Because an industry-specific dataset relevant to this proceeding exists within the Department's preferred ILO source, we will be using industry-specific data to calculate a surrogate wage rate for this review, in accordance with section 773(c)(1) of the Act.

Therefore, for this review, the Department has calculated the wage rate using a simple average of the data provided to the ILO under Sub-Classification 24 of the ISIC-Revision.3 standard ² by countries determined to be both economically comparable to the PRC and significant producers of comparable merchandise. Specifically, the Department finds the two-digit description under ISIC-Revision.³ (“Manufacture of Chemicals and Chemical Products”) to be the best available surrogate wage rate on the record because it is specific and derived from industries that produce merchandise comparable to the subject merchandise.³ Further, because this wage rate does not separate the labor rates into different skill levels or types of labor, the Department has applied the same wage rate to all skill levels and types of labor reported by Jiheng.⁴

² The ILO industry-specific data is reported according to the International Standard Industrial Classification of all Economic Activities (“ISIC”) code, which is maintained by the United Nations Statistical Division and is periodically updated. These updates are referred to as “Revisions.” The ILO, an organization under the auspices of the United Nation, utilizes this classification for reporting purposes. Currently, wage and earnings data are available from the ILO under the following revisions: ISIC-Rev.2, ISIC-Rev.3, and most recently, ISIC-Rev.4. The ISIC code establishes a two-digit breakout for each manufacturing category, and also often provides a three- or four-digit sub-category for each two-digit category. Depending on the country, data may be reported at the two-, three-, or four-digit subcategory. Sub-Classification 24 of the ISIC-Revision.3 covers “Manufacture of Chemicals and Chemical Products.”

³ See Issues and Decision Memorandum at Comment 2; see also Memorandum Regarding: Final Results of the 2008-2009 Administrative Review of the Antidumping Duty Order on Chlorinated Isocyanurates from the People's Republic of China: Final Results Surrogate Value Memorandum, dated concurrently with this notice (“Final Surrogate Value Memo”).

⁴ See Issues and Decision Memorandum at Comment 2; see also Final Surrogate Value Memo.

We revised the surrogate financial ratio calculations by making certain adjustments to Kanoria Chemicals and Industries Limited's (“Kanoria's”) selling, general, and administrative expenses and profit.⁵ In addition, we are only relying on Kanoria's financial statements for the year ended March 31, 2009. We did not rely on the financial statements of Aditya Birla Chemicals Limited for the year ended March 31, 2009.⁶

⁵ See Issues and Decision Memorandum at Comment 5 and Comment 7; see also, Final Surrogate Value Memo.

⁶ See Issues and Decision Memorandum at Comment 3; see also Final Surrogate Value Memo.

We corrected certain ministerial errors in the calculations for the Preliminary Results.⁷

⁷ See Issues and Decision Memorandum at Comments 8-9; see also Memorandum Regarding: Final Results of the 2008-2009 Administrative Review of the Antidumping Duty Order on Chlorinated Isocyanurates from the People's Republic of China: Analysis Memorandum for the Final Results: Hebei Jiheng Chemical Company, Ltd., dated concurrently with this notice (“Final Analysis Memo”).

Final Results of Review

We determined that the following dumping margin exists for the period June 1, 2008, through May 31, 2009.

Exporter | Weighted-average margin percentage
Hebei Jiheng Chemical Corporation, Ltd. | 2.66

Assessment Rates

The Department intends to issue assessment instructions to U.S. Customs and Border Protection (“CBP”) 15 days after the date of publication of these final results of review. In accordance with 19 CFR 351.212(b)(1), we have calculated importer-specific assessment rates for merchandise subject to this review.

Cash Deposit Requirements

The following deposit requirements will be effective upon publication of this notice of final results of administrative review for all shipments of subject merchandise entered, or withdrawn from warehouse, for consumption on or after the date of publication, as provided by section 751(a)(2)(C) of the Act: (1) For subject merchandise exported by Jiheng, the cash deposit rate will be 1.76 percent; (2) for previously reviewed or investigated exporters not listed above that have separate rates, the cash deposit rate will continue to be the exporter-specific rate published for the most recent period; (3) for all PRC exporters of subject merchandise, which have not been found to be entitled to a separate rate, the cash deposit rate will be the PRC-wide rate of 285.63 percent; and (4) for all non-PRC exporters of subject merchandise that have not received their own rate, the cash deposit rate will be the rate applicable to the PRC exporter that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these final results of review and notice in accordance with sections 751(a) and 777(i) of the Act.

Dated: November 10, 2010.
Ronald K. Lorentzen,
Deputy Assistant Secretary for Import Administration.

Appendix

List of Comments and Issues in the Issues and Decision Memorandum

I. Surrogate Values

Comment 1: Surrogate Value for Steam Coal

Comment 2: Wage Rate

Comment 3: Selection of Financial Statements

II. Specific Financial Statement Issues: Aditya

Comment 4: Interest Income

III. Specific Financial Statement Issues: Kanoria

Comment 5: Miscellaneous Receipts

Comment 6: Gross Interest Income

Comment 7: Profit Ratio

IV. Ministerial Errors

Comment 8: Kanoria's SG&A Expense Calculation

Comment 9: Domestic Brokerage and Handling

[FR Doc. 2010-29020 Filed 11-16-10; 8:45 am]

BILLING CODE 3510-DS-P